DEPARTMENT OF THE INTERIOR

National Park Service

[NPS-SERO-NCPTT-20415; PPWOCRADS2][PCU00PT14.GT0000]

Request for Nominations for the Preservation Technology and Training Board

AGENCY: National Park Service, Interior.

ACTION: Request for nominations.

SUMMARY: The National Park Service (NPS), U.S. Department of the Interior, proposes to appoint new members to the Preservation Technology and Training Board (Board). The NPS is requesting nominations for qualified persons to serve as members of the Board.

DATES: Written nominations must be received by May 4, 2016.

ADDRESSES: Kirk A. Cordell, Executive Director, National Center for Preservation Technology and Training, National Park Service, 645 University Parkway, Natchitoches, LA 71457, by telephone (318) 356-7444. In addition to U.S. mail or commercial delivery, written comments may be sent by fax to Mr. Cordell at (318) 356-9119, or submitted electronically on the center Web site: ncptt@nps.gov.

FOR FURTHER INFORMATION CONTACT: Kirk A. Cordell, Executive Director, National Center for Preservation Technology and Training, National Park Service, 645 University Parkway, Natchitoches, LA 71457, by telephone (318) 356-7444.

SUPPLEMENTARY INFORMATION: The Board, established by Title IV, Section 404 of Public Law 102-575, October 30, 1992 (54 U.S.C. 305303), provides advice and professional oversight to the Secretary of the Interior and the National Center for Preservation Technology and Training regarding the activities of the Center.

Established within the Department of the Interior, the National Center for Preservation Technology and Training is located at Northwestern State University of Louisiana in Natchitoches, Louisiana. Title IV, Section 404 of Public Law 102-575, October 30, 1992, established the Board to provide advice and professional oversight to the Secretary of the Interior and the Center regarding the activities of the Center and to submit an annual report to the President and the Congress.

The Board is comprised of 13 members appointed for 4-year terms, as follows: (a) one member serving as the Secretary's designee; (b) six members who represent appropriate Federal, State, and local agencies, State and local historic preservation commissions, and other public and international organizations; and (c) six members on the basis of outstanding professional qualifications who represent major organizations in the fields of archeology, architecture, conservation, curation, engineering, history, historic preservation, landscape architecture, planning, or preservation education.

We are currently seeking one member serving as the Secretary's designee; and members appointed on the basis of outstanding professional qualifications who represent major organizations in the fields of archeology, architecture, conservation, curation, engineering, history, historic preservation, landscape architecture, planning, or preservation education.

Nominations should be typed and should include a resume providing an adequate description of the nominee's qualifications, including information that would enable the Department of the Interior to make an informed decision regarding meeting the membership requirements of the Board and permit the Department of the Interior to contact a potential member.

Members of the Board serve without compensation. However, while away from their homes or regular places of business in the performance of services for the Board as approved by the Designated Federal Officer, members may be allowed travel expenses, including per diem in lieu of subsistence, in the same manner as persons employed intermittently in Government service are allowed such expenses under Section 5703 of Title 5 of the United States Code.

Individuals who are Federally registered lobbyists are ineligible to serve on all Federal Advisory Committee Act (FACA) and non-FACA boards, committees, or councils in an individual capacity. The term “individual capacity” refers to individuals who are appointed to exercise their own individual best judgment on behalf of the government, such as when they are designated Special Government Employees, rather than being appointed to represent a particular interest.

Dated: March 15, 2016.
Alma Ripps,
Chief, Office of Policy.

[FR Doc. 2016-07493 Filed 4-1-16; 8:45 am]

BILLING CODE 4310-EE-P